DEPARTMENT OF THE INTERIOR

Fish and Wildlife Service

[FWS-R4-ES-2019-N103; FXES11140400000-190-FF04EF2000]

Receipt of Incidental Take Permit Application and Proposed Habitat Conservation Plan for the Sand Skink and Blue-Tailed Mole Skink; Polk County, FL; Categorical Exclusion

AGENCY: Fish and Wildlife Service, Interior.

ACTION: Notice of availability; request for comment and information.

SUMMARY: We, the Fish and Wildlife Service (Service), announce receipt of an application from Hwy 540 Land Investments, LLC (applicant) for an incidental take permit (ITP) under the Endangered Species Act. The applicant requests the ITP to take the federally listed sand skink and blue-tailed mole skink incidental to land preparation and construction in Polk County, Florida. We request public comment on the application, which includes the applicant's proposed habitat conservation plan (HCP), and the Service's preliminary determination that this HCP qualifies as “low-effect,” categorically excluded, under the National Environmental Policy Act. To make this determination, we used our environmental action statement and low-effect screening form, both of which are also available for review.

DATES: We must receive your written comments on or before September 16, 2019.

ADDRESSES: Obtaining Documents: You may obtain copies of the documents by any of the following methods:

• Telephone: Lindsay Nester, 772-469-4226.

• Email: lindsay_nester@fws.gov. Use “Attn: Permit number TE24579D” as your message subject line.

• U.S. mail: Lindsay Nester, South Florida Ecological Services Field Office, Attn: Permit number “TE24579D,” U.S. Fish and Wildlife Service, 1339 20th Street, Vero Beach, FL 32960-3559.

• In-person review: The documents are available for public inspection by appointment during normal business hours at the above address. Please call to make an appointment.

• Fax: Lindsay Nester, 772-562-4288, Attn.: Permit number “TE24579D.”

Submitting Comments: If you wish to submit comments on any of the documents, you may do so in writing via the above email address, U.S. mail address, or fax number. You also may hand-deliver comments to the above address during regular business hours.

FOR FURTHER INFORMATION CONTACT: Lindsay Nester, by U.S. mail (see ADDRESSES) or via phone at 772-469-4226. Individuals who are hearing impaired or speech impaired may call the Federal Relay Service at 800-877-8339 for TTY assistance.

SUPPLEMENTARY INFORMATION: We, the Fish and Wildlife Service (Service), announce receipt of an application from Hwy 540 Land Investments, LLC, for incidental take permit under the Endangered Species Act of 1973, as amended (ESA; 16 U.S.C. 1531 et seq.). The applicant requests a 5-year ITP for the take of the federally listed sand skink (Neoseps reynoldsi) and blue-tailed mole skink (Eumeces egregius) (skinks) incidental to land preparation and construction (project) in Polk County, Florida. We request public comment on the application, which includes a habitat conservation plan (HCP), and on our preliminary determination that this HCP qualifies as “low-effect,” categorically excluded, under the National Environmental Policy Act (NEPA; 42 U.S.C. 4321 et seq.). To make this determination, we used our environmental action statement and low-effect screening form, which are also available for public review.

Project

Hwy 540 Land Investments, LLC requests a 5-year ITP to take sand skink and blue-tailed mole skink incidental to the conversion of approximately 7.46 acres of occupied foraging and sheltering habitat for construction of a housing development on a 38-acre parcel in Section 36, Township 28S, Range 25E, Polk County, Florida. The applicant proposes to mitigate for the take by purchasing and protecting 14.92 acres of occupied skink habitat at a Service-approved conservation bank prior to engaging in any land clearing activities on the parcel.

Public Availability of Comments

Before including your address, phone number, email address, or other personal identifying information in your comment, be aware that your entire comment—including your personal identifying information—may be made available to the public at any time. While you may request that we withhold your personal identifying information, we cannot guarantee that we will be able to do so.

Our Preliminary Determination

The Service has made a preliminary determination that the applicant's project, including the land preparation, construction, and proposed mitigation measure, would individually and cumulatively have a minor or negligible effect on the skinks and the environment. Therefore, we have preliminarily determined that the ITP for this project would qualify for categorical exclusion, and the HCP is “low-effect” under our NEPA regulations at 43 CFR 46.205 and 46.210. A low-effect HCP is one that would result in (1) minor or negligible effects on federally listed, proposed, and candidate species and their habitats; (2) minor or negligible effects on other environmental values or resources; and (3) impacts that, when considered together with the impacts of other past, present, and reasonable foreseeable similarly situated projects, would not result over time in significant cumulative effects to environmental values or resources.

Next Steps

The Service will evaluate the application and the comments received to determine whether to issue the requested permit. We will also conduct an intra-Service consultation pursuant to section 7 of the ESA to evaluate the effects of the proposed take. After considering the above findings, we will determine whether the permit issuance criteria of section 10(a)(1)(B) of the ESA have been met. If met, the Service will issue ITP number TE24579D-0 to Hwy 540 Land Investments, LLC.

Authority

The Service provides this notice under section 10(c) (16 U.S.C. 1531 et seq.) of the ESA and NEPA regulation 40 CFR 1506.6.

Roxanna Hinzman,
Field Supervisor, South Florida Ecological Services Office.

[FR Doc. 2019-17533 Filed 8-14-19; 8:45 am]

BILLING CODE 4333-15-P